DEPARTMENT OF THE INTERIOR

Bureau of Land Management

[ES-960-1910-BJ-4489] ES-51255, Group 37, Illinois]

Notice of Filing of Plat of Survey; Illinois

The plat of the dependent resurvey of a portion of the east boundary, a portion of the south boundary, a portion of the subdivisional lines, a portion of the adjusted record meanders of the left bank of the Illinois River and the survey of the Kampsville Lock and Dam acquisition boundary, in Township 10 North, Range 14 West of the 3rd Principal Meridian, Illinois will be officially filed in Eastern States, Springfield, Virginia at 7:30 a.m., on December 17, 2001.

The survey was requested by the U.S. Army Corps of Engineers.

All inquiries or protests concerning the technical aspects of the survey must be sent to the Chief Cadastral Surveyor, Eastern States, Bureau of Land Management, 7450 Boston Boulevard, Springfield, Virginia 22153, prior to 7:30 a.m., December 17, 2001.

Copies of the plat will be made available upon request and prepayment of the appropriate fee.

Dated: October 25, 2001.
Stephen D. Douglas,
Chief Cadastral Surveyor.

[FR Doc. 01-28613 Filed 11-14-01; 8:45 am]

BILLING CODE 4310-GJ-P